ENVIRONMENTAL PROTECTION AGENCY

40 CFR Part 63

[EPA-HQ-OAR-2016-0243; FRL-10009-65-OAR]

RIN 2060-AO66

National Emission Standards for Hazardous Air Pollutants: Plywood and Composite Wood Products Residual Risk and Technology Review

Correction

In rule document 2020-12725 appearing on pages 49434-49469 in the issue of August 13, 2020, make the following correction:

§ 63.2282 [Corrected]

On page 49459, in § 63.2282, in the third column, in the ninth line down, “August 13, 2021]” should read “August 13, 2020”.

[FR Doc. C1-2020-12725 Filed 8-20-20; 8:45 am]

BILLING CODE 1300-01-D